DEPARTMENT OF HEALTH AND HUMAN SERVICES

[Document Identifier OS-0990-New; 30-day notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Activities to Assess the Feasibility of Creating and Maintaining a National Registry of Child Abuse and Neglect Perpetrators—OMB No. 0990-NEW—Office of the Assistant Secretary for Planning and Evaluation.

Abstract: This study will assess the feasibility of implementing a national registry of child maltreatment perpetrators. The study has two components: a Prevalence Study, and a Key Informant Survey. The Prevalence Study will provide national estimates of the number of persons who have been found to be substantiated perpetrators of child maltreatment in more than one State. The data for this component of the study will come primarily from records from the National Child Abuse and Neglect Data System. These data will be supplemented with encoded names and dates of birth of all substantiated child maltreatment perpetrators over a five year period in order to facilitate inter-state record matching, and will be collected from the States.

The Key Informant Survey will collect information in several areas including: the structure and content of State repositories of data on child maltreatment perpetrators; current legal mandates and policies concerning the sharing of information on substantiated perpetrators; existing practices for sharing information on child maltreatment perpetrators with other states; and perceived benefits and costs to participation in a national registry that may affect States' future participation.

This is a one-time data collection effort. The affected public consists of the 50 States, the District of Columbia, and Puerto Rico. Respondents will include staff designated by state child welfare directors including IT staff, department attorneys, and state child welfare administrators. The length of the request is for two years.

Estimated Annualized Burden Table
Instrument | Type of respondent | Number of respondents | Number of responses per respondent | Average burden (in hours) per response | Total burden hours
Prevalence Study | State IT Staff | 52 | 1 | 30 | 1,560
Key Informant Survey: Legal/Policy Questionnaire | Attorney from Child Welfare Agency | 52 | 1 | 3 | 156
Key Informant Survey: Practices Questionnaire | State Administrator | 52 | 1 | 3 | 156
Key Informant Survey: Technical Information on Data Repositories Questionnaire | State administrator | 52 | 1 | 2 | 104
Total |  |  |  |  | 1,976

Seleda Perryman,
Office of the Secretary, Paperwork Reduction Act Clearance Officer.

[FR Doc. 2010-15800 Filed 6-29-10; 8:45 am]

BILLING CODE 4150-05-P